DEPARTMENT OF HEALTH AND HUMAN SERVICES

[Document Identifier: 4040-0005]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 21, 2019.

ADDRESSES: Submit your comments to Sherrette.Funn@hhs.gov or by calling (202) 795-7714.

FOR FURTHER INFORMATION CONTACT: When submitting comments or requesting information, please include the document identifier 4040-0005-60D and project title for reference to Grants.gov Manager, Ed Calimag, at ed.calimag@hhs.gov or 202-690-7569.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application for Federal Assistance—Individual.

Type of Collection: Reinstatement without change.

OMB No. 4040-0005.

Abstract: The Application for Federal Assistance—Individual form provides the Federal grant-making agencies an alternative to the Standard Form 424 data set and form. Agencies may use Application for Federal Assistance—Individual form for grant programs not required to collect all the data that is required on the SF-424 core data set and form.

Type of respondent: The Application for Federal Assistance—Individual form is used by organizations to apply for Federal financial assistance in the form of grants. This form is submitted to the Federal grant-making agencies for evaluation and review.

Annualized Burden Hour Table
Forms | Respondents (if necessary) | Number of respondents | Number of responses per respondents | Average burden per response | Total burden hours
Application for Federal Assistance—Individual | Grant applicants | 0 | 1 | 1 | 0
Total |  | 0 | 1 | 1 | 0

Terry Clark,
Assistant Information Collection Clearance Officer.

[FR Doc. 2019-07959 Filed 4-19-19; 8:45 am]

BILLING CODE 4151-AE-P